DEPARTMENT OF JUSTICE

Notice of Lodging of Proposed Consent Decree Under the Clean Water Act

On December 12, 2016, the Department of Justice lodged a proposed consent decree with the United States District Court for the Northern District of Indiana in the lawsuit entitled United States and State of Indiana v. the City of Gary, Indiana, and Gary Sanitary District, Civil Action No. 2:16-cv-512 (N.D. Ind.).

The United States and the State filed a complaint under the Clean Water Act, alleging violations of the Gary Sanitary District's wastewater discharge permit and duty to respond to an information request issued by the United States Environmental Protection Agency. The Settling Defendants are the Gary Sanitary District and the City of Gary. The proposed consent decree requires the Settling Defendants to: (1) Develop and implement a control plan addressing discharges from the Gary Sanitary District's combined sewer overflow outfalls into the local water bodies; (2) implement additional operational changes focused on improving the wastewater treatment system's efficiency; (3) repay an outstanding loan extended to the City by the District; (4) pay a civil penalty of $75,000; (5) perform a supplemental environmental project costing $175,000; and (6) provide schedules for the remaining remediation of the Ralston Street Lagoon and the remediation of sediment in the Grand Calumet River, which are outstanding Clean Water Act and Toxic Substances Control Act requirements from a consent decree entered into by the Parties in 2003 in Civil Action No. 2:78-cv-29 and 86-540 (N.D. Ind.). The settlement would resolve the Settling Defendants' civil liability for the violations alleged in the complaint that has been filed in the same action also on December 12, 2016. The United States and Indiana reached a settlement in 2014 pertaining to the same set of violations with the former operator of Gary Sanitary District's wastewater treatment system, United Water, Inc., and several of its subsidiaries, in United States of America and State of Indiana v. United Water, Inc. et al., Civil Action No. 2:14-cv-193 JD (N.D. Ind.)

The publication of this notice opens a period for public comment on the proposed consent decree. Comments should be addressed to the Assistant Attorney General, Environment and Natural Resources Division and should refer to United States and State of Indiana v. the City of Gary, Indiana, and Gary Sanitary District, D.J. Ref. No. 90-5-1-1-2601/2. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed consent decree may be examined and downloaded at this Justice Department Web site: https://www.justice.gov/enrd/consent-decrees. We will provide a paper copy of the proposed consent decree upon written request and payment of reproduction costs. Please mail your request and payment to: Consent Decree Library, U.S. DOJ—ENRD, P.O. Box 7611, Washington, DC 20044-7611.

Please enclose a check or money order for $36.50 (25 cents per page reproduction cost) payable to the United States Treasury. For a paper copy without the exhibits and signature pages, the cost is $18.25.

Randall M. Stone,
Acting Assistant Section Chief, Environmental Enforcement Section, Environment and Natural Resources Division.

[FR Doc. 2016-30628 Filed 12-19-16; 8:45 am]

BILLING CODE 4410-15-P